INTERNATIONAL TRADE COMMISSION

[Investigation No. 731-TA-922 (Final)]

Automotive Replacement Glass Windshields From China

AGENCY: United States International Trade Commission.

ACTION: Revised schedule for the subject investigation.

EFFECTIVE DATE: February 19, 2002.

FOR FURTHER INFORMATION CONTACT: Gail Burns (202-205-2501), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for this investigation may be viewed on the Commission's electronic docket (EDIS-ON-LINE) at http://dockets.usitc.gov/eol/public.

SUPPLEMENTARY INFORMATION: On September 19, 2001, the Commission established a schedule for the conduct of the final phase of the subject investigation (Federal Register 66 FR 53630, October 23, 2001). The applicable statute directs that the Commission make its final injury determination within 45 days after the final determination by the U.S. Department of Commerce, which was on February 12, 2002 (Federal Register 66 FR 6482, February 12, 2002). The Commission, therefore, is revising its schedule.

The Commission's new schedule for the investigation is as follows: the Commission will make its final release of information on March 13, 2002; and final party comments are due on March 15, 2002.

For further information concerning this investigation see the Commission's notice cited above and the Commission's Rules of Practice and Procedure, part 201, subparts A through E (19 CFR part 201), and part 207, subparts A and C (19 CFR part 207).

Authority: This investigation is being conducted under authority of title VII of the Tariff Act of 1930; this notice is published pursuant to section 207.21 of the Commission's rules.

By order of the Commission.
Issued: February 20, 2002.
Marilyn R. Abbott,
Acting Secretary.

[FR Doc. 02-4496 Filed 2-25-02; 8:45 am]

BILLING CODE 7020-02-P